DEPARTMENT OF THE INTERIOR

Bureau of Land Management

[MO4500180461]

Notice of Proposed Reinstatement of Terminated Oil and Gas Lease NMNM105679576, New Mexico

AGENCY: Bureau of Land Management, Interior.

ACTION: Notice.

SUMMARY: In accordance with the Mineral Leasing Act of 1920, Mewbourne Oil Company timely filed a petition for reinstatement of competitive oil and gas lease NMNM105679576 (legacy serial number NMNM 115404) in Eddy County, New Mexico. The lessee paid the required rentals accruing from the date of termination. No lease was issued that affect these lands. The Bureau of Land Management (BLM) proposes to reinstate the lease.

FOR FURTHER INFORMATION CONTACT: Julieann Serrano, Supervisory Land Law Examiner, Branch of Adjudication, Bureau of Land Management New Mexico State Office, 301 Dinosaur Trail, Santa Fe, New Mexico 87508, (505) 954-2149, jserrano@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The lessees agree to new lease terms for rentals and royalties of $20 per acre, or fraction thereof, per year, and 20 percent, respectively. The lessee agrees to additional or amended stipulations. The lessee paid the $500 administration fee for the reinstatement of the lease and $151 cost for publishing this Notice.

The lessee met the requirements for reinstatement of the lease per sections 31 (d) and (e) of the Mineral Leasing Act of 1920 (30 U.S.C. 188). The BLM is proposing to reinstate the lease effective March 1, 2006, and an extension for one year from the date the lease is reinstated in accordance with 43 CFR 3108.23(d) subject to: the original terms and conditions of the lease; additional and amended stipulations; increased rental of $20 per acre; increased royalty of 20 percent; and a one-year lease extension.

Authority: 30 U.S.C. 188 (e)(4) and 43 CFR 3108.23.

Julieann Serrano,
Supervisory Land Law Examiner, Branch of Adjudication.

[FR Doc. 2024-17379 Filed 8-6-24; 8:45 am]

BILLING CODE 4331-23-P